ENVIRONMENTAL PROTECTION AGENCY

40 CFR Part 52

[EPA-R09-OAR-2021-0748; FRL-11882-02-R9]

Air Plan Revisions; Arizona; Maricopa County Air Quality Department

AGENCY: Environmental Protection Agency (EPA).

ACTION: Final rule.

SUMMARY: The Environmental Protection Agency (EPA) is taking final action to approve revisions to the Maricopa County Air Quality Department (MCAQD) portion of the Arizona State Implementation Plan (SIP). These revisions concern emissions of volatile organic compounds (VOCs), oxides of nitrogen (NOX), particulate matter (PM), and oxides of sulfur (SOX). We are approving local rules that regulate these emission sources under the Clean Air Act (CAA or the Act).

DATES: This rule action will be effective September 19, 2024.

ADDRESSES: The EPA has established a docket for this action under Docket ID No. EPA-R09-OAR-2021-0748. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: La Kenya Evans-Hopper, EPA Region IX, 75 Hawthorne St., San Francisco, CA 94105; phone: (415) 972-3245; email: evanshopper.lakenya@epa.gov.

SUPPLEMENTARY INFORMATION: Throughout this document, “we,” “us,” and “our” refer to the EPA.

Table of Contents

I. Proposed Action

II. Public Comments and EPA Responses

III. EPA Action

IV. Incorporation by Reference

V. Statutory and Executive Order Reviews

I. Proposed Action

On April 16, 2024 (89 FR 26813), the EPA proposed to approve the following rules and rule rescissions into the Arizona SIP.

Table 1—Rules To Be Rescinded
Rule No. | Title | Local adoption date | SIP approval date | FR citation
22 | Permit Denial-Action-Transfer-Expiration-Posting-Revocation-Compliance | August 12, 1971 | July 27, 1972 | 37 FR 15080.
28 | Permit Fees | March 8, 1982 | June 18, 1982 | 47 FR 26382.
32 G | Other Industries | October 1, 1975 | April 12, 1982 | 47 FR 15579.
32 H | Fuel Burning Equipment for Producing Electric Power (Sulfur Dioxide) | October 1, 1975 | April 12, 1982 | 47 FR 15579.
32 J | Operating Requirements for an Asphalt Kettle | June 23, 1980 | April 12, 1982 | 47 FR 15579.
32 K | Emissions of Carbon Monoxide | June 23, 1980 | April 12, 1982 | 47 FR 15579.
41 A | Monitoring | August 12, 1971 | July 27, 1972 | 37 FR 15080.
41 B | Monitoring | October 2, 1978 | April 12, 1982 | 47 FR 15579.
42 | Testing and Sampling | August 12, 1971 | July 27, 19.72 | 37 FR 15080.
74 C | Public Notification | June 23, 1980 | April 12, 1982 | 47 FR 15579.

Table 2—Submitted Rules
Rule No. | Title | Local revision date | EPA submission date
320 section 306 | Odors and Gaseous Air Contaminants, Limitation—Sulfur from Other Industries | July 2, 2003 | November 13, 2023.
320 section 307 | Odors and Gaseous Air Contaminants, Operating Requirements—Asphalt Kettles and Dip Tanks | July 2, 2003 | November 13, 2023.

We proposed to approve the rescission of the rules in table 1, and the inclusion of the rules in table 2, because we determined that the rule rescissions in table 1 and rule replacements in table 2 comply with the relevant CAA requirements. Our proposed action contains more information on the rules and our evaluation.

II. Public Comments and EPA Responses

The EPA's proposed action provided a 30-day public comment period. During this period, we received two comments. The comments discussed Arizona's legalization of recreational marijuana and its impact on air quality. The EPA has determined that the comments fail to raise issues germane to the proposed recission and/or replacement of local rules from the MCAQD portion of the Arizona SIP. Therefore, we have determined that these comments do not necessitate a response, and the EPA will not provide specific responses to the comments in this notice.

III. EPA Action

No comments were submitted that change our assessment of the rule recissions as described in our proposed action. Therefore, as authorized in section 110(k)(3) of the Act, the EPA is approving the rule recissions in table 1, and the inclusion of the Rules in table 2 into the Arizona SIP. The recissions will remove the previously approved Rule 22, Rule 28, Rule 32 sections G, H, J, and K, Rule 41, Rule 42 and Rule 74 section C from the SIP. Rule 320, section 306 will replace Rule 32, section G and Rule 320, section 307 will replace Rule 32, section J in the SIP.

IV. Incorporation by Reference

In this rule, the EPA is finalizing regulatory text that includes incorporation by reference. The EPA is also finalizing deletion of rules that were previously incorporated by reference from the applicable Arizona SIP. In accordance with requirements of 1 CFR 51.5, the EPA is finalizing the incorporation by reference of Maricopa Rule 320 section 306,—Odors and Gaseous Air Contaminants, Limitation—Sulfur from Other Industries, and Rule 320 section 307, Odors and Gaseous Air Contaminants, Operating Requirements—Asphalt Kettles and Dip Tanks, revised on July 2, 2003, which regulates sulfur and visible emissions from asphalt kettle or dip tanks. The EPA is also finalizing the incorporation by reference for the rescission of the Arizona rules described in the amendments to 40 CFR part 52 set forth below. Therefore, these materials have been approved by the EPA for removal from the SIP, and will be incorporated by reference by the EPA into that plan, are fully federally enforceable under sections 110 and 113 of the CAA as of the effective date of the final rulemaking of the EPA's approval in the next update to the SIP compilation.¹ The EPA has made, and will continue to make, these documents available through www.regulations.gov and at the EPA Region IX Office (please contact the person identified in the FOR FURTHER INFORMATION CONTACT section of this preamble for more information).

¹ 62 FR 27968 (May 22, 1997).

V. Statutory and Executive Order Reviews

Under the Clean Air Act, the Administrator is required to approve a SIP submission that complies with the provisions of the Act and applicable federal regulations. 42 U.S.C. 7410(k); 40 CFR 52.02(a). Thus, in reviewing SIP submissions, the EPA's role is to approve State choices, provided that they meet the criteria of the Clean Air Act. Accordingly, this action merely approves State law as meeting federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate environmental justice considerations as part of its SIP submittal; the CAA and applicable implementing regulations neither prohibit nor require such an evaluation. The EPA did not perform an EJ analysis and did not consider EJ in this action. Due to the nature of the action being taken here, this action is expected to have a neutral to positive impact on the air quality of the affected area. Consideration of EJ is not required as part of this action, and there is no information in the record inconsistent with the stated goal of Executive Order 12898 of achieving environmental justice for people of color, low-income populations, and Indigenous peoples.

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by October 21, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Nitrogen oxides, Ozone, Particulate matter, Reporting and recordkeeping requirements, Sulfur oxides, Volatile organic compounds.

Dated: July 29, 2024.
Martha Guzman Aceves,
Regional Administrator, Region IX.

For the reasons stated in the preamble, EPA amends part 52, chapter I, Title 40 of the Code of Federal Regulations as follows:

PART 52—APPROVAL AND PROMULGATION OF IMPLEMENTATION PLANS

1. The authority citation for part 52 continues to read as follows:

Authority: 42 U.S.C. 7401 et seq.

Subpart D—Arizona

2. In § 52.120, in paragraph (c), amend “Table 4 to Paragraph (c)—EPA-Approved Maricopa County Air Pollution Control Regulations” by:

a. Removing the entries for “Rule 22,” “Rule 28,” “Rule 32 (Paragraphs G, H, J, and K only),” “Rule 41 (Paragraphs A and B only),” “Rule 42,” and “Rule 74 (Paragraph C only)”; and

b. Adding entries for “Rule 320 section 306” and “Rule 320 section 307” after the entry for “Rule 318”.

The additions read as follows:

§ 52.120 Identification of plan.

* * * * *

(c) * * *

Table 4 to Paragraph (c)—EPA-Approved Maricopa County Air Pollution Control Regulations
County citation | Title/subject | State effective date | EPA approval date | Additional explanation
* * * * * * *
Post-July 1998 Rule Codification
* * * * * * *
Regulation III—Control of Air Contaminants
* * * * * * *
Rule 320 section 306 | Odors and Gaseous Air Contaminants, Limitation—Sulfur from Other Industries | July 2, 2003 | August 20, 2024, [INSERT FEDERAL REGISTER CITATION] | Submitted on November 13, 2023.
Rule 320 section 307 | Odors and Gaseous Air Contaminants, Operating Requirements—Asphalt Kettles and Dip Tanks | July 2, 2003 | August 20, 2024, [INSERT FEDERAL REGISTER CITATION] | Submitted on November 13, 2023.
* * * * * * *

* * * * *

[FR Doc. 2024-17500 Filed 8-19-24; 8:45 am]

BILLING CODE 6560-50-P